NUCLEAR REGULATORY COMMISSION

[Docket No. 50-263; NRC-2023-0031]

Northern States Power Company—Minnesota; Xcel Energy; Monticello Nuclear Generating Plant, Unit 1

AGENCY: Nuclear Regulatory Commission.

ACTION: Subsequent license renewal application; receipt.

SUMMARY: The U.S. Nuclear Regulatory Commission (NRC) has received an application for the subsequent renewal of Renewed Facility Operating License No. DPR-22, which authorizes Northern States Power Company, a Minnesota corporation (NSPM or the applicant), doing business as Xcel Energy, to operate Monticello Nuclear Generating Plant (MNGP), Unit 1. The subsequent renewed license would authorize the applicant to operate MNGP for an additional 20 years beyond the period specified in the current license. The current operating license for MNGP expires September 8, 2030.

DATES: The subsequent license renewal application referenced in this document was available as of January 9, 2023.

ADDRESSES: Please refer to Docket ID NRC-2023-0031 when contacting the NRC about the availability of information regarding this document. You may obtain publicly available information related to this document using any of the following methods:

• Federal Rulemaking Website: Go to https://www.regulations.gov and search for Docket ID NRC-2023-0031. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Monticello Nuclear Generating Plant Docket No. 50-263, Renewal License Number DPR-22 Application for Subsequent Renewal Operating License, is available in ADAMS under Accession No. ML23009A354.

• Public Library: A copy of the license renewal application for MNGP can be accessed at the following public library: Monticello Great River Regional Library, 200 W 6th St, Monticello, MN 55362.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Jessica Hammock, Office of Nuclear Reactor Regulation, U.S. Nuclear Regulatory Commission, Washington DC 20555-0001; telephone: 301-415-0740; email: Jessica.Hammock@nrc.gov.

SUPPLEMENTARY INFORMATION: The NRC has received an application from NSPM, dated January 9, 2023, filed pursuant to section 103 of the Atomic Energy Act of 1954, as amended, and part 54 of title 10 of the Code of Federal Regulations, “Requirements for Renewal of Operating Licenses for Nuclear Power Plants,” to renew the operating license for MNGP. The current operating license was previously renewed on November 8, 2006. Subsequent renewal of the license would authorize the applicant to operate the facility for an additional 20-year period beyond the period specified in the current operating license. The current operating license for MNGP expires September 8, 2030. The MNGP is a Boiling Water Reactor located in Monticello, Minnesota. The acceptability of the tendered application for docketing, and other matters, including an opportunity to request a hearing, will be the subject of subsequent Federal Register notices.

Dated: January 26, 2023.
For the Nuclear Regulatory Commission.
Lauren K. Gibson,
Chief, License Renewal Project Branch, Division of New and Renewed Licenses, Office of Nuclear Reactor Regulation.

[FR Doc. 2023-01993 Filed 1-30-23; 8:45 am]

BILLING CODE 7590-01-P